DEPARTMENT OF ENERGY

Federal Energy Regulatory Commission

[Docket No. CP22-489-001]

Northern Natural Gas Company; Notice of Request for Extension of Time

Take notice that on September 11, 2023, Northern Natural Gas Company (Northern) requested that the Federal Energy Regulatory Commission (Commission) grant an extension of time (2023 Extension of Time Request), until October 13, 2023, to install and operate an approximately 1.57-mile expansion of its 36-inch-diameter MNM80105 Ventura Interconnect to Farmington E-Line in Freeborn and Steele counties, Minnesota, in the Prior Notice Request for Authorization Under Blanket Certificate (Prior Notice) under Docket No. CP22-489-000. On July 25, 2022, the Commission issued a Notice of Request Under Blanket Authorization, which established a 60-day comment period, ending on September 23, 2022, to file protests. No protests were filed during the comment period, and accordingly the project was authorized on September 24, 2022 and by Rule should have been completed within one year.

In its 2023 Extension of Time Request, Northern states that it delayed construction until May 22, 2023, to avoid construction during the winter and spring load restrictions on State and local roads. Northern expected to complete the Project within the one-year time frame. However, during construction, Northern's contractor experienced multiple delays with the horizontal directional drilling (HDD) activities due to drill rig availability and an increased duration for the pilot and reaming activities. Additionally, construction for the associated tie-in facilities was longer than expected due to a change in tie-in plans at the Albert Lea compressor station as described in weekly report 16. The proposed tie-in location on the D-line was not suitable for in-service welding, resulting in additional excavation, backfill, fabrication and pressure testing. Northern currently estimates completing commissioning and testing of the new line the week of October 2, 2023.

This notice establishes a 15-calendar day intervention and comment period deadline. Any person wishing to comment on Northern's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,¹ the Commission will aim to issue an order acting on the request within 45 days.² The Commission will address all arguments relating to whether the applicant has demonstrated there is good cause to grant the extension.³ The Commission will not consider arguments that re-litigate the issuance of the certificate order, including whether the Commission properly found the project to be in the public convenience and necessity and whether the Commission's environmental analysis for the certificate complied with the National Environmental Policy Act.⁴ At the time a pipeline requests an extension of time, orders on certificates of public convenience and necessity are final and the Commission will not re-litigate their issuance.⁵ The OEP Director, or his or her designee, will act on all of those extension requests that are uncontested.

¹ Contested proceedings are those where an intervenor disputes any material issue of the filing. 18 CFR 385.2201(c)(1) (2019).

² Algonquin Gas Transmission, LLC, 170 FERC ¶ 61,144, at P 40 (2020).

³ Id. at P 40.

⁴ Similarly, the Commission will not re-litigate the issuance of an NGA section 3 authorization, including whether a proposed project is not inconsistent with the public interest and whether the Commission's environmental analysis for the permit order complied with NEPA.

⁵ Algonquin Gas Transmission, LLC, 170 FERC ¶ 61,144, at P 40 (2020).

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room. For assistance, contact FERC at FERCOnlineSupport@ferc.gov or call toll-free, (886) 208-3676 or TTY (202) 502-8659.

The Commission strongly encourages electronic filings of comments, protests and interventions in lieu of paper using the “eFiling” link at http://www.ferc.gov. Persons unable to file electronically should submit an original and three copies of the protest or intervention to the Federal Energy Regulatory Commission, 888 First Street NE, Washington, DC 20426.

Comment Date: 5:00 p.m. Eastern Time on, October 5, 2023.

Dated: September 18, 2023.
Kimberly D. Bose,
Secretary.

[FR Doc. 2023-20570 Filed 9-21-23; 8:45 am]

BILLING CODE 6717-01-P